FEDERAL COMMUNICATIONS COMMISSION

47 CFR Parts 1 and 63

[IB Docket No. 04-47; FCC 07-118]

Modifications of the Rules and Procedures Governing the Provisions of International Telecommunications Service

AGENCY: Federal Communications Commission.

ACTION: Final rule; announcement of effective date.

SUMMARY: In this document, the Commission announces that the Office of Management and Budget (OMB) has approved, for a period of three years, the information collection requirements international telecommunications service regulations. The information collection requirements were approved on February 18, 2011 by OMB.

DATES: The amendments to 47 CFR 63.19(a)(1) and (a)(2) and 47 CFR 63.24(c), published at 72 FR 54363, September 25, 2007, are effective on March 11, 2011.

FOR FURTHER INFORMATION CONTACT: For additional information, please contact Cathy Williams, cathy.williams@fcc.gov or on (202) 418-2918.

SUPPLEMENTARY INFORMATION: This document announces that, on February 18, 2011, OMB approved, for a period of three years, the information collection requirements contained in 47 CFR 63.19(a)(1) and (a)(2) and 47 CFR 63.24(c). The Commission publishes this document to announce the effective date of these rule sections. See In the Matter of Amendment of Parts 1 and 63 of the Commission's Rules, IB Docket No. 04-47; FCC 07-118, 72 FR 54363, September 25, 2007.

Synopsis

As required by the Paperwork Reduction Act of 1995 (44 U.S.C. 3507), the Commission is notifying the public that it received OMB approval on February 18, 2011, for the information collection requirements contained in 47 CFR 63.19(a)(1) and (a)(2) and 47 CFR 63.24(c). Under 5 CFR 1320, an agency may not conduct or sponsor a collection of information unless it displays a current, valid OMB Control Number.

No person shall be subject to any penalty for failing to comply with a collection of information subject to the Paperwork Reduction Act that does not display a valid OMB Control Number.

The OMB Control Number is 3060-0686 and the total annual reporting burdens for respondents for this information collection are as follows:

OMB Control Number: 3060-0686.

Title: International Section 214 Process and Tariff Requirements, 47 CFR 63.10, 63.11, 63.13, 63.18, 63.19, 63.21, 63.24, 63.25 and 1.1311.

Form No.: FCC Form 214.

OMB Approval Date: February 18, 2011.

OMB Expiration Date: February 28, 2014.

Type of Review: Revision of a currently approved collection.

Respondents: Business or other for-profit.

Number of Respondents: 1,670 respondents; 10,264 responses.

Estimated Time per Response: 0.50-16 hours (average).

Frequency of Response: On occasion reporting requirement, recordkeeping requirement and third party disclosure requirement.

Obligation To Respond: Required to obtain or retain benefits. The statutory authority for this collection is contained in Sections 1, 4(i), 4(j)11, 201-205, 211, 214, 219, 220, 303(r), 309, 310 and 403 of the Communications Act of 1934, as amended, 47 U.S.C. 151, 154(i), 154(j), 161, 21, 201-205, 214, 219, 220, 303(r), 309, and sections 34-39.

Total Annual Burden: 34,376 hours.

Total Annual Cost: $3,625,391.

Privacy Act Impact Assessment: N/A.

Nature and Extent of Confidentiality: There is no need for confidentiality with this collection of information.

Needs and Uses: The Federal Communications Commission (“Commission”) received approval from the Office of Management and Budget (OMB) for the revision of OMB Control No. 3060-0686 titled, “International Section 214 Authorization Process and Tariff Requirements—47 CFR 63.10, 63.13, 63.18, 63.19, 63.21, 63.24, 63.25 and 1.1311.” This information collection was revised to receive OMB approval for information collection requirements that were adopted in the Matter of Amendment of Parts 1 and 63 of the Commission's Rules, IB Docket No. 04-47; FCC 07-118 on June 20, 2007 (released June 22, 2007). The following information collection requirements received OMB approval on February 18, 2011:

Section 63.19(a)(1) states that the carrier shall notify all affected customers of the planned discontinuance, reduction or impairment at least 30 days prior to its planned action. Notice shall be in writing to each affected customer unless the Commission authorizes in advance, for good cause shown, another form of notice.

Section 63.19(a)(2) states that the carrier shall file with this Commission a copy of the notification on the date on which notice has been given to all affected customers. The filing may be made by letter (sending an original and five copies to the Office of the Secretary, and a copy to the Chief, International Bureau) and shall identify the geographic areas of the planned discontinuance, reduction or impairment and the authorization(s) pursuant to which the carrier provides service.

Section 63.24(c) requires that a transfer of control is a transaction in which the authorization remains held by the same entity, but there is a change in the entity or entities that control the authorization holder. A change from less than 50 percent ownership to 50 percent or more ownership shall always be considered a transfer of control. A change from 50 percent or more ownership to less than 50 percent ownership shall always be considered a transfer of control. In all other situations, whether the interest being transferred is controlling must be determined on a case-by-case basis. Once a carrier determines that there has been a transfer of control, it must file an application with the Commission.

Federal Communications Commission.
Gloria Miles,
Federal Register Liaison, Office of the Secretary, Office of Managing Director.

[FR Doc. 2011-5634 Filed 3-10-11; 8:45 am]

BILLING CODE 6712-01-P